DEPARTMENT OF LABOR

Employment and Training Administration

[TA-W-61,980]

Maxair; Fort Worth, TX; Notice of Termination of Investigation

Pursuant to Section 221 of the Trade Act of 1974, as amended, an investigation was initiated on August 13, 2007 in response to a petition filed by a company official on behalf of workers at Maxair, Forth Worth, Texas.

The petitioner has requested that the petition be withdrawn. Consequently, the investigation has been terminated.

Signed at Washington, DC this 22nd day of August 2007.
Elliott S. Kushner,
Certifying Officer, Division of Trade Adjustment Assistance.

[FR Doc. E7-17047 Filed 8-28-07; 8:45 am]

BILLING CODE 4510-FN-P